DEPARTMENT OF THE INTERIOR

Bureau of Land Management

[LLORW00000.L16100000.DP0000.LXSSH0930000 15XL1109AF.HAG15-0133]

San Juan Islands National Monument Advisory Committee, Meeting

AGENCY: Bureau of Land Management, Interior

ACTION: Notice of public meeting.

SUMMARY: In accordance with the Federal Land Policy and Management Act and the Federal Advisory Committee Act, the Bureau of Land Management's (BLM) San Juan Islands National Monument Advisory Committee (MAC) will meet as indicated below.

DATES: The MAC will meet on three separate dates in the next two months. The meetings on May 28 and June 5 are scheduled for 8:30 a.m.-4:45 p.m. at the San Juan Island Grange, 152 N 1st Street, Friday Harbor, Washington 98250. The meeting on June 9 is scheduled for 9:30 a.m.-4:45 p.m. at Brickworks, 150 Nichols St., Friday Harbor, Washington 98250.

Thursday, May 28, 2015: Meeting discussions will include an update on outcomes of the scoping process in March 2015. The MAC will be guided through the planning process steps, with definitions of key steps, such as Issues Identification. The committee will then review the variety of resource comments as well as the list of preliminary planning issues developed by the BLM interdisciplinary team. The committee will provide recommendations on any modifications to this list that they may have. The planning issues are the questions (e.g., how should the BLM manage recreation while protecting ecological, cultural, and historic values) that the BLM will explore answers to through the range of alternative management approaches developed for the draft plan.

Friday, June 5, 2015: This meeting will focus on the ecological values within the National Monument for which the BLM will be developing alternative management approaches through the planning process. BLM resource leads for wildlife, botany, and invasive species will be present to share the breadth of considerations and opportunities that will be considered in the generation of alternatives.

Tuesday, June 9, 2015: This meeting will focus on cultural and historic values within the National Monument for which the BLM will be developing alternative management approaches through the planning process. The BLM resource lead for cultural and heritage resources will be present to introduce the MAC to the requirements for considerations and analysis in the generation of alternatives.

FOR FURTHER INFORMATION CONTACT: Marcia deChadenèdes, San Juan Islands National Monument Manager, P.O. Box 3, 37 Washburn Ave., Lopez Island, Washington 98261, (360) 468-3051, or mdechade@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The twelve member San Juan Islands MAC was chartered to provide information and advice regarding the development of the San Juan Islands National Monument's RMP. Members represent an array of stakeholder interests in the land and resources from within the local area and statewide. All advisory committee meetings are open to the public. At each meeting, at 3:45 p.m., members of the public will have the opportunity to make comments to the MAC during a one-hour public comment period. Persons wishing to make comments during the public comment period should register in person with the BLM by 3 p.m. on that meeting day, at the meeting location. Depending on the number of persons wishing to comment, the length of comments may be limited. The public may send written comments to the MAC at San Juan Islands National Monument, Attn. MAC, P.O. Box 3, 37 Washburn Ave., Lopez Island, Washington 98261. The BLM appreciates all comments.

Jeffery A. Rose,
Spokane District Manager.

[FR Doc. 2015-11299 Filed 5-8-15; 8:45 am]

BILLING CODE 4310-33-P